DEPARTMENT OF HEALTH AND HUMAN SERVICES

Centers for Medicare & Medicaid Services

[Document Identifier: CMS-179 and CMS-R-74]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: State Plan Under Title XIX of the Social Security Act (Base plan pages, Attachments, Supplements to attachments); Use: State Medicaid agencies complete the plan pages and CMS reviews the information to determine if the State has met all of the provisions that the State has chosen to implement. If the requirements are met, CMS will approve the amendments to the State's Medicaid plan giving the State the authority to implement the flexibilities. For a State to receive Medicaid Title XIX funding, there must be an approved Title XIX State plan. In addition to the revisions associated with the 60-day notice that published on December 16, 2011 (76 FR 78264), additional changes have been made to the Pre-Print (Attachment 4.19-B) subsequent to the publication of that notice; Form Number: CMS-179 (OCN 0938-0193); Frequency: Occasionally; Affected Public: State, Local, or Tribal Governments; Number of Respondents: 56; Total Annual Responses: 1,120; Total Annual Hours: 400. (For policy questions regarding this collection contact Falecia Smith at 202-260-5991. For all other issues call 410-786-1326.)

2. Type of Information Collection Request: Revision of a currently approved collection; Title of Information Collection: Income and Eligibility Verification System (IEVS) Reporting and Supporting Regulations Contained in 42 CFR 431.17, 431.306, 435.910, 435.920, and 435.940-960; Use: The information collected is used to verify the income and eligibility of Medicaid applicants and recipients, as required by section 1137 of the Social Security Act. Under Section 1137, States must request applicants' Social Security Numbers and use that number to verify the income and eligibility information contained on each application through data matches with specified agencies and entities. The State must use information collected by unemployment compensation agencies and the Internal Revenue Service to the extent useful.

The Qualifying Individual Program Supplemental Funding Act of 2008 amended section 1903(r) of the Social Security Act to incorporate the requirement that States include data matching through the Public Assistance Reporting Information System (PARIS) in their Income and Eligibility Verification Systems (IEVS). PARIS is a system for matching data from certain public assistance programs, including State Medicaid programs, with selected Federal and State data for purposes of facilitating appropriate enrollment and retention in public programs. States are required to sign an agreement to participate in PARIS as a condition of receiving Medicaid funding for automated data systems (including the Medicaid Management Information System).

States can use the PARIS data match to ensure that individuals enrolled in Medicaid or other public assistance benefits in one State are not receiving duplicate benefits based on simultaneous enrollment in the Medicaid program or other public benefit programs in another State. In certain circumstances, PARIS may also be used as a tool to identify individuals who have not applied for Medicaid coverage, but who may be eligible based on their income.

Subsequent to the publication of the 60-day notice that published on January 4, 2012 (77 FR 291), a State Plan Amendment template has been added to the PRA package and the burden estimate and Supporting Statement have been revised; Form Number: CMS-R-74 (OCN 0938-0467); Frequency: Monthly; Affected Public: State, Local, or Tribal Governments; Number of Respondents: 54; Total Annual Responses: 54; Total Annual Hours: 134,865. (For policy questions regarding this collection contact Barbara Washington at 410-786-9964. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on April 23, 2012.

OMB, Office of Information and Regulatory Affairs, Attention: CMS Desk Officer, Fax Number: (202) 395-6974, Email: OIRA_submission@omb.eop.gov.

Dated: March 19, 2012.
Martique Jones,
Director, Regulations Development Group, Division-B, Office of Strategic Operations and Regulatory Affairs.

[FR Doc. 2012-7066 Filed 3-22-12; 8:45 am]

BILLING CODE 4120-01-P